DEPARTMENT OF THE INTERIOR

National Park Service

Notice of Intent To Prepare an Environmental Impact Statement for the White-Tailed Deer Management Plan, Indiana Dunes National Lakeshore, IN

AGENCY: National Park Service, Department of the Interior.

SUMMARY: Under the provisions of the National Environmental Policy Act of 1969 (42 U.S.C. 4321 et seq.), the National Park Service (NPS) is preparing an environmental impact statement for the White-tailed Deer Management Plan for Indiana Dunes National Lakeshore (Lakeshore). A deer management plan is needed to ensure the local deer population does not become a dominant force within the Lakeshore that negatively influences ecosystem components such as sensitive vegetation or other wildlife.

DATES: The NPS will accept comments from the public for 60 days from the date this notice is published in the Federal Register. In addition, the NPS intends to conduct public scoping open houses at the Lakeshore. Please check local newspapers, the Lakeshore's Web site http://www.nps.gov/indu or contact the name listed below to find out when and where these open houses will be held.

ADDRESSES: Information will be available for public review and comment at the Lakeshore headquarters located at 1100 North Mineral Springs Road, Porter, Indiana, and the Dorothy Buell Memorial Visitor Center, U.S. 12 and Kemil Road, Beverly Shores, Indiana.

FOR FURTHER INFORMATION CONTACT: The Resource Management Program Assistant, Indiana Dunes National Lakeshore, 219-926-7561, extension 332.

SUPPLEMENTARY INFORMATION: Within eastern national parks such as Indiana Dunes National Lakeshore, landscapes have been managed to allow for preservation and rehabilitation of scenic, scientific, and historic lands. The result is a mixture of forest, shrub, and grassland, which constitute excellent habitat for white-tailed deer. Since deer management has not been part of management policies in the majority of parks, the population of deer has greatly increased. Impacts to significant park resources by the deer population could compromise the park's purpose as mandated by Congress in 1966, which was to preserve the exceptional biological diversity found within its boundaries. The objectives of this planning effort include determining a science-based and supportable vegetation and wildlife impact level and corresponding density of deep populations to assist in potential future management actions. The plan would develop and implement an adaptive management approach for maintaining a healthy deer population. Finally, the plan would prevent impacts from deer browsing to sensitive, threatened or endangered plant and animal species. Preliminary alternatives to meet these objectives include fencing, repellents, reproductive control, direct reduction, and a combination of these management strategies. A no action alternative will also be analyzed.

A scoping brochure has been prepared that details the issues identified to date, and possible alternatives to be considered. Copies of that information may be obtained from the Resource Management Program Assistant, Indiana Dunes National Lakeshore, 1100 North Mineral Springs Road, Porter, Indiana 46304, telephone 219-926-7561, extension 332, or the Lakeshore's Web site (http://www.nps.gov/indu).

If you wish to comment on the scoping brochure or on any other issues associated with the plan, you may submit your comments by any one of several methods. You may mail comments to Resource Management, Indiana Dunes National Lakeshore, at the address given above. You may also e-mail comments to indu_forum@nps.gov. Please submit Internet comments as a text file avoiding the use of special characters and any form of encryption. Please put in the subject line “Deer Management” and include your name and return address in your message. If you do not receive a confirmation from the system that we have received your message, contact us directly at Resource Management 219-926-7561, extension 332. Finally, you may hand-deliver comments to the Dorothy Buell Memorial Visitor Center, U.S. 12 and Kemil Road, Beverly Shores, Indiana.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: June 24, 2003.
Ernest Quintana,
Acting Regional Director, Midwest Region.

[FR Doc. 03-18697 Filed 7-22-03; 8:45 am]

BILLING CODE 4310-25-P